DEPARTMENT OF TRANSPORTATION

Office of the Secretary

Notice of Applications for Certificates of Public Convenience and Necessity and Foreign Air Carrier Permits Filed Under Subpart B (Formerly Subpart Q) During the Week Ending July 4, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0152.

Date Filed: June 30, 2009.

Due Date for Answers, Conforming Applications, or Motions To Modify Scope: July 21, 2009.

Description: Application of MJet GmbH requesting a foreign air carrier permit to the full extent authorized by the Air Transport Agreement between the United States and the European Community and the Member States of the European Community to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters; and (iv) transportation authorized by any additional route rights made available to European Community carriers in the future. MJet further requests exemption authority to the extent necessary to enable it to provide the services described above pending issuance of a foreign air carrier permit and such additional or other relief.

Docket Number: DOT-OST-2009-0153.

Date Filed: June 30, 2009.

Due Date for Answers, Conforming Applications, or Motions To Modify Scope: July 21, 2009.

Description: Application of Swiss Air Ambulance Ltd requesting a foreign air carrier permit to the full extent authorized by the Air Transport Agreement between the Government of the United States of America and the Government of Switzerland in order to engage in: (i) Charter foreign air transportation of persons and property between points behind Switzerland via Switzerland and intermediate points to a point or points in the United States and beyond, and (ii) fifth freedom charter service pursuant to the prior approval requirements. Swiss Air Ambulance further requests exemption authority to the extent necessary to enable it to provide the services described above pending issuance of a foreign air carrier permit and such additional or other relief as the Department may deem necessary or appropriate.

Renee V. Wright,
Program Manager, Docket Operations, Federal Register Liaison.

[FR Doc. E9-16761 Filed 7-14-09; 8:45 am]

BILLING CODE 4910-9X-P